DEPARTMENT OF JUSTICE

Immigration and Naturalization Service

AGENCY: Request OMB Emergency Approval; Application for Naturalization.

ACTION: Agency Information Collection Activities: Proposed Collection; Comment Request

The Department of Justice, Immigration and Naturalization Service (INS) has submitted the following information collection request utilizing emergency review procedures to the Office of Management and Budget (OMB) for review and clearance in accordance with the Paperwork Reduction Act of 1995. The INS has determined that it cannot reasonably comply with the normal clearance procedures under this part because normal clearance procedures are reasonably likely to prevent or disrupt the collection of information. Therefore, OMB approval has been requested by February 25, 2000. ALL comments and/or questions pertaining to this pending request for emergency approval MUST be directed to OMB, Office of Information and Regulatory Affairs, Attention: Mr. Stuart Shapiro, 202-395-7316, Department of Justice Desk Officer, Washington, DC 20503. Comments regarding the emergency submission of this information collection may also be submitted via facsimile to Mr. Shapiro at 202-385-6974.

The information collection was previously published in the Federal Register on January 8, 1999 at 64 FR 1219-1238, allowing for a 60-day public comment period on a proposed revision. Numerous comments were received prompting further program evaluation of the Form N-400 (Application for Naturalization). Accordingly, to prevent the disruption of this information collection, OMB approved the continuation without change of the current information collection, rather than the revision of the Form N-400.

It should be noted that the INS is in the process of continuing the evaluation and the revision of the Form N-400 program, to include system changes to allow for data entry of the information from the new form into the tracking system. Upon completion of the new Form N-400, another notice announcing the revision of the Form N-400 will be published in the Federal Register to solicit and obtain public comment. Until such action is taken, the public is instructed to continue to use the current Form N-400 (dated 1-15-99). Questions regarding the proposed revision of the Form N-400 should be directed to Gerard Casale of the Information Services Division on (202) 514-0788.

With publication of this notice, the INS is continuing the approval process of the current information collection by allowing an additional 30 days for public comments. Comments are encouraged and will be accepted until March 23, 2000. This process is conducted in accordance with 5 CFR 1320.10.

Written comments and/or suggestions regarding the items contained in this notice, especially regarding the estimated public burden and associated response time, should be directed to the Office of Management and Budget, Office of Information and Regulatory Affairs, Attention: Stuart Shapiro, Department of Justice Desk Officer, Room 10235, Washington, DC 20530; 202-395-7316.

Written comments and suggestions from the public and affected agencies concerning the proposed collection of information should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this Information Collection

(1) Type of Information Collection: Reinstatement of a previously approved collection.

(2) Title of the Form/Collection: Application for Naturalization.

(3) Agency form number, if any, and the applicable component of the Department of Justice sponsoring the collection: Form N-400, Office of Naturalization Operations, Immigration and Naturalization Service.

(4) Affected public who will be asked or required to respond, as well as a brief abstract: Primary: Individuals or Households. The information collected is used by the INS to determine eligibility for naturalization.

(5) An estimated of the total number of respondents and the amount of time estimated for an average respondent to respond: 700,000 responses at 4 hours and 30 minutes per response.

(6) An estimate of the total public burden (in hours) associated with the collection: 3,031,000 annual burden hours.

If you have additional comments, suggestions, or need a copy of the proposed information collection instrument with instructions, or additional information, please contact Richard A. Sloan 202-514-3291, Director, Policy Directives and Instructions Branch, Immigration and Naturalization Service, U.S. Department of Justice, Room 5307, 425 I Street, NW., Washington, DC 20536. Additionally, comments and/or suggestions regarding the item(s) contained in this notice, especially regarding the estimated public burden and associated response time may also be directed to Mr. Richard A. Sloan.

If additional information is required contact: Mr. Robert B. Briggs, Clearance Office, United States Department of Justice, Information Management and Security Staff, Justice Management Division, Suite 850, Washington Center, 1001 G Street, NW, Washington, DC 20530.

Dated: February 19, 2000.
Richard A. Sloan,
Department Clearance Officer, Department of Justice, Immigration and Naturalization Service.

[FR Doc. 00-4272 Filed 2-17-00; 4:14 pm]

BILLING CODE 4410-10-M